FEDERAL COMMUNICATIONS COMMISSION

[WC Docket No. 02-60; DA 02-2954]

Announcement of Opening of Year 2003 Funding Year Window for E-Rate Applications and the Release of FCC Forms 470 and 471 With Instructions for Funding Year 2003

AGENCY: Federal Communications Commission.

ACTION: Notice.

SUMMARY: This document announces the release of FCC Forms 470 and 471 and the accompanying instructions. These forms are to be used by applicants seeking discounts under the schools and libraries universal service support mechanism.

FOR FURTHER INFORMATION CONTACT: Narda Jones, Attorney, Telecommunications Access Policy Division, Wireline Competition Bureau, (202) 418-7400, TTY: (202) 418-0484.

SUPPLEMENTARY INFORMATION: The Wireline Competition Bureau of the Federal Communications Commission announces the release of FCC Forms 470 and 471 and the accompanying instructions. These forms are to be used by applicants seeking discounts under the schools and libraries universal service support mechanism. FCC Form 471 has been updated to allow for computerized scanning. In addition, minor technical corrections and clarifications have been made. Copies of the forms and instructions are included in the attachments.

FCC Forms 470 and 471 with accompanying instructions for Funding Year 2003 may also be obtained at the Schools and Libraries Division (SLD) Web site, <http://www.sl.universalservice.org/form/>. Parties with questions about the forms and instructions or are otherwise in need of assistance with the filing of their applications should contact SLD's Customer Service Support Center at 1-888-203-8100.

Federal Communications Commission.
Mark G. Seifert,
Deputy Division Chief, Telecommunications Access Policy Division.

BILLING CODE 6712-01-P

[FR Doc. 02-28326 Filed 11-8-02; 8:45 am]

BILLING CODE 6712-01-C